DEPARTMENT OF ENERGY

Federal Energy Regulatory Commission

[Project No. 4306-017—Minnesota]

City of Hastings; Notice of Availability of Environmental Assessment

September 26, 2008.

In accordance with the National Environmental Policy Act of 1969, as amended, and the Federal Energy Regulatory Commission's (Commission) regulations (18 CFR Part 380), the Office of Energy Projects has prepared an environmental assessment (EA) regarding the City of Hastings' (City's) request to install two hydrokinetic turbines at the Mississippi Lock and Dam No. 2 Hydroelectric Project. The project is located on the Mississippi River in Dakota County, Minnesota. This EA concludes that the Proposed Action, with staff's recommended mitigation measures, would not constitute a major Federal action significantly affecting the quality of the human environment.

Copies of the EA are available for review in the Public Reference Room of the Commission's offices at 888 First Street NE., Washington, DC. The EA also may be viewed on the Commission's Internet Web site (www.ferc.gov) using the “eLibrary” link. Enter the docket number “P-4306” in the docket number field to access the document. For assistance with eLibrary, contact FERCOnlineSupport@ferc.gov or call toll-free at (866) 208-3372, or for TTY contact (202) 502-8659.

For further information regarding this notice, please contact Andrea Claros at (202) 502-8171 or by e-mail at andrea.claros@ferc.gov.

Kimberly D. Bose,
Secretary.

[FR Doc. E8-23215 Filed 10-1-08; 8:45 am]

BILLING CODE 6717-01-P